DEPARTMENT OF ENERGY

Federal Energy Regulatory Commission

[Docket No. AD12-7-000]

Southwestern Gas Storage Technical Conference; Notice of Revised Agenda and Transcript Availability

On December 13, 2011, the Secretary issued formal notice that on February 16, 2012 at 9:00 a.m. MST, the Staff of the Federal Energy Regulatory Commission (FERC or Commission) will convene a technical conference with interested parties to discuss issues related to natural gas storage development in the southwestern United States, to be held at the Radisson Fort McDowell Resort, 10438 North Fort McDowell Rd., Scottsdale, AZ 85264 (http://www.radissonfortmcdowellresort.com).

Attached is a revised agenda for the conference. In addition, this conference will be transcribed, and the transcript will be immediately available for a fee from Ace-Federal Reporters, Inc. (202-347-3700 or 1-800-336-6646).

If you have any questions about the upcoming conference or if you would like additional information, please contact Berne Mosley in the Office of Energy Projects, phone: (202) 502-8700, email: berne.mosley@ferc.gov.

Dated: February 7, 2012.
Kimberly D. Bose,
Secretary.

Agenda
Event/item | Speaker/panelists | Time
Opening Remarks | Jeff Wright, Director, Office of Energy Projects | 9:00 a.m.
Keynote | Chairman Gary Pierce, Arizona Corporation Commission | 9:10
FERC/NERC Outage Report (Need for Storage) | Tom Pinkston, Office of Enforcement, Division of Market Oversight | 9:20
FERC Certificate Process | Jeff Wright, Director, Office of Energy Projects | 9:45
Geology of the Southwest (Storage Applicability) | Todd Ruhkamp, Office of Energy Projects, Division of Pipeline Certificates; Tom Shaw, Vice President, Corporate Development, Voyager Midstream, LLC | 10:15
Environmental Impacts of Storage | Danny Laffoon, Office of Energy Projects, Division of Gas Environment & Engineering | 10:55
Environmental Impacts—Case Study | Rafael Montag, Office of Energy Projects, Division of Gas Environment & Engineering | 11:20
Lunch (on your own) |  | 11:45
FERC Storage Policies | Berne Mosley, Deputy Director, Office of Energy Projects | 12:45 p.m.
Industry Panel 1 | Mike Manning—Tricor Energy, LLC; Greg Gettman—El Paso Natural Gas Company | 1:15
Industry Panel 2 | Dick Robinson—Picacho Peak Gas Storage, LLC; Jim Bowe—Arizona Natural Gas Storage LLC Steve Cole—Enstor Operating Company, LLC | 1:45
Customer Panel | Norm Spooner—Arizona Storage Coalition; Tom Carlson—Arizona Public Service Co.; William Moody—Southwest Gas Corporation | 2:30
State Regulatory Panel | Joe Dixon—Manager, Minerals Section, Arizona State Land Department; TBA—Arizona Corporation Commission | 3:15
Federal Panel | Arizona Department of Environmental Quality (invited); Zach Barrett—PHMSA | 3:45
Native American Perspective | Alan Downer—Navajo Nation | 4:15
Closing Remarks | Jeff Wright, Director, Office of Energy Projects | 4:45

[FR Doc. 2012-3278 Filed 2-10-12; 8:45 am]

BILLING CODE 6717-01-P